Title 3—

The President

Proclamation 10431 of August 26, 2022

Overdose Awareness Week, 2022

By the President of the United States of America

A Proclamation

The overdose epidemic has taken a heartbreaking toll on our Nation, claiming the lives of far too many Americans and devastating families and communities across the country. During Overdose Awareness Week, we renew our commitment to taking bold action to prevent overdoses and related deaths. We continue our efforts to enhance prevention, harm reduction, treatment, and recovery support services for individuals with substance use disorder and addiction. We affirm our duty to stop the flow of illicit drugs from reaching our communities.

As the overdose epidemic has evolved, synthetic opioids —particularly illicitly manufactured fentanyl—now drive the majority of overdose deaths. In 2021, more than 100,000 people died from an overdose, an approximate 15 percent increase from the previous year. Every loss is a painful reminder that, now more than ever, we must address our Nation's overdose epidemic.

As I said during my State of the Union Address, beating the opioid overdose epidemic is an urgent priority for the Nation and a key pillar of my Administration's Unity Agenda. That is why the American Rescue Plan provided nearly $4 billion to strengthen our Nation's mental health and substance use care infrastructure. The Department of Justice has seized record amounts of illicit drugs and provided $94 million to adult re-entry and recidivism reduction programs, including almost $30 million for substance use disorder treatment. The Department of Health and Human Services released a comprehensive Overdose Prevention Strategy, increasing access to services for affected individuals and families. The White House Office of National Drug Control Policy released its first National Drug Control Strategy, focusing on untreated addiction and drug trafficking, two critical drivers of the overdose epidemic. We are making significant strides in ending the stigmatization surrounding addiction so people can access the help they need.

We are also changing how we help people with substance use disorder in a variety of ways. We are working to expand access to high-impact harm reduction interventions like naloxone, the opioid overdose reversal medication, and to remove barriers to effective treatment. We are addressing the underlying factors that lead to substance use disorder and addiction. We are targeting drug trafficking organizations by disrupting the operating capital they need to sustain their criminal enterprises.

These are important steps, but we know more work lies ahead. That is why my budget calls for an historic investment of $42.5 billion for National Drug Control Program Agencies to support the National Drug Control Strategy, including $24.3 billion to support the expansion of evidence-based prevention, treatment, harm reduction, and recovery support services. This request also includes increasing funding to reduce illicit drug supplies and improve the health and safety of our communities.

Overdose Awareness Week is a time to remember those tragically lost to overdose and the pain of the families who are left behind. But it is also an opportunity to recommit ourselves to working together to build safe, healthy, and resilient communities. By adopting evidence-based approaches to reducing overdose risks and lowering barriers to treatment and support, we can save more American lives.

NOW, THEREFORE, I, JOSEPH R. BIDEN JR., President of the United States of America, by virtue of the authority vested in me by the Constitution and the laws of the United States, do hereby proclaim August 28 through September 3, 2022, as Overdose Awareness Week. I call upon citizens, Government agencies, civil society organizations, healthcare providers, and research institutions to raise awareness of substance use disorder to combat stigmatization, to promote treatment and celebrate recovery, and to strengthen our collective efforts to prevent overdose deaths. August 31st also marks Overdose Awareness Day, on which we honor and remember those who have lost their lives to the drug overdose epidemic.

IN WITNESS WHEREOF, I have hereunto set my hand this twenty-sixth day of August, in the year of our Lord two thousand twenty-two, and of the Independence of the United States of America the two hundred and forty-seventh.

[FR Doc. 2022-18933

Filed 8-30-22; 8:45 am]

Billing code 3395-F2-P